FEDERAL MARITIME COMMISSION

Ocean Transportation Intermediary License Rescission of Order of Revocation

The Commission gives notice that it has rescinded its Order revoking the following licenses pursuant to section 19 of the Shipping Act of 1984 (46 U.S.C. 40101).

License No.: 017436N.

Name: Scorpion Express Line Corp.

Address: 4995 NW 72nd Avenue, Suite 209, Miami, FL 33122.

Order Published: April 3, 2013 (Volume 78, No. 64, Pg. 20107).

License No.: 022799N.

Name: Atlantic Cargo Logistics LLC.

Address: 127 East New York Avenue, Suite 1, Deland, FL 32720.

Order Published: April 3, 2013 (Volume 78, No. 64, Pg. 20107).

James A. Nussbaumer,
Deputy Director, Bureau of Certification and Licensing.

[FR Doc. 2013-09086 Filed 4-17-13; 8:45 am]

BILLING CODE 6730-01-P